DEPARTMENT OF TRANSPORTATION

Federal Highway Administration

Notice of Final Federal Agency Actions on Proposed Transportation Project in California

AGENCY: Federal Highway Administration (FHWA), DOT.

ACTION: Notice of limitation on claims for judicial review.

SUMMARY: The FHWA, on behalf of the California Department of Transportation (Caltrans), is issuing this notice to announce actions taken by Caltrans that are final agency actions. These actions relate to the proposed to the improvements of reconstructing and widening The Old Road, replacing two bridges, reconstructing and widening Rye Canyon Road, and reconstructing and widening Sky View Lane, including reconfiguration of its intersection with The Old Road.

DATES: By this notice, the FHWA, on behalf of Caltrans, is advising the public of final agency actions subject to 23 U.S.C. 139(l)(1). A claim seeking judicial review of the Federal Agency actions on the listed highway project will be barred unless the claim is filed on or before June 29, 2026. If the Federal law that authorizes judicial review of a claim provides a time period of less than 150 days for filing such claim, then that shorter time period still applies.

ADDRESSES: The Environmental Assessment with Finding of No Significant Impact (EA/FONSI) and additional project documents can be viewed and downloaded from the project website at: https://pw.lacounty.gov/projects/the-old-road-over-santa-clara-river/ or by contacting Caltrans District 7 Environmental, 100 Main St., Los Angeles, CA 90012, during normal business hours from 8 a.m. to 5 p.m. (Pacific Time), Monday through Friday, except State holidays.

FOR FURTHER INFORMATION CONTACT: For Caltrans: Michael Enwedo, Environmental Brach Chief, michael.enwedo@dot.ca.gov, (213) 335-0060.

SUPPLEMENTARY INFORMATION: Effective July 1, 2007, and as subsequently renewed on May 27, 2022, the FHWA assigned, and Caltrans assumed, environmental responsibilities for this project pursuant to 23 U.S.C. 327. Notice is hereby given that Caltrans has taken final agency actions subject to 23 U.S.C. 139(l)(1) by issuing licenses, permits, or approvals for the proposed improvement highway project. The actions by Caltrans and other Federal agencies on the project, and the laws under which such actions were taken are described in the EA/FONSI approved on July 8, 2025, and in other project records for the listed project. The EA/FONSI and other documents for the listed project are available by contacting Caltrans at the address provided above.

The project subject to this notice is:

Project Location: The project is on the Old Road from Henry Mayo Drive to Magic Mountain Parkway. This limits also include Rye Canyon Road from Old Road to Avenue Stanford. The project would also extend the existing multi-use trail from its existing terminus just south of Rye Canyon Road to just northwest of the I-5 on and off ramps. The project would reconstruct and widening Sky View Lane between The Old Road and Entertainment Drive.

Project Actions: This notice applies to the Environmental Assessment with Finding of No Significant Impact and all other Federal agency licenses, permits, or approvals for the listed project as of the issuance date of this notice including but not limited to the Section 4(f) Resource Programmatic Approval and all laws under which such actions were taken, including but not limited to:

1. General: National Environmental Policy Act (NEPA) [42 U.S.C. 4321 et seq.]; Federal-Aid Highway Act (FAHA) [23 U.S.C. 109 and 23 U.S.C. 128]; 23 CFR part 771.

2. Air: Clean Air Act (CAA) [42 U.S.C. 7401-7671(q)], with the exception of project level conformity determinations [42 U.S.C. 7506].

3. Noise: Noise Control Act of 1972 [42 U.S.C. 4901-4918]; 23 CFR part 772.

4. Fish and Wildlife Coordination Act [16 U.S.C. 661-667(d)]; Migratory Bird Treaty Act (MBTA) [16 U.S.C. 703-712];

5. Historic and Cultural Resources: Section 106 of the National Historic Preservation Act of 1966, as amended [54 U.S.C. 3006101 et seq.]; Archaeological Resources Protection Act of 1979 (ARPA) [16 U.S.C. 470(aa)-470(II)]; Preservation of Historical and Archaeological Data [54 U.S.C. 312501-312508].

6. Hazardous Materials: Comprehensive Environmental Response, Compensation, and Liability Act (CERCLA) [42 U.S.C. 9601-9675];

7. Executive Orders: E.O. 11990 Protection of Wetlands; E.O. 11988 Floodplain Management; E.O. 11593 Protection and Enhancement of Cultural Resources; E.O. 13007 Indian Sacred Sites; E.O. 13287 Preserve America; E.O. 11514 Protection and Enhancement of Environmental Quality; E.O. 13112 Invasive Species.

8. Relocation and Real Property Acquisition: The Federal Uniform Relocation Assistance and Real Property Acquisition Policies Act of 1970, as amended (Uniform Act), and Title 49 Code of Federal Regulations (CFR) Part 24.

9. Farmlands: Farmland Protection Policy Act (FPPA, 7 United States Code [U.S.C.] 4201-4209; and its regulations, 7 Code of Federal Regulations [CFR] Part 658) require federal agencies.

10. Hydrology and Floodplain: (E.O.) 11988, (CFR) 650 Subpart A.

11. Water Quality and Storm Water Runoff: Clean Water Act (CWA), National Pollutant Discharge Elimination System (NPDES).

Antonio Johnson,
Director of Planning, Environmental and Right of Way, Federal Highway Administration, California Division.

[FR Doc. 2026-01684 Filed 1-27-26; 8:45 am]

BILLING CODE 4910-RY-P